FEDERAL COMMUNICATIONS COMMISSION

47 CFR Part 73

[DA 02-2224; MM Docket No. 00-18, RM-9790]

Radio Broadcasting Services; Barnwell, SC, and Douglas, East Dublin, Pembroke, Pulaski, Statesboro, Swainsboro, Twin City, and Willacooche, GA

AGENCY: Federal Communications Commission.

ACTION: Final rule; grant of petition for reconsideration.

SUMMARY: This document grants a Petition for Reconsideration filed by Multi-Service Corporation Small directed to the Report and Order in this proceeding which substituted Channel 257C1 for Channel 256C3 at Barnwell, South Carolina, reallotted Channel 257C1 to Pembroke, Georgia, and modified the license of Station WBAW to specify operation on Channel 257C1 at Pembroke. The Report and Order also allotted Channel 256C3 to Barnwell as a replacement service. See 66 FR 55596, November 2, 2001. Specifically, this document modified the Report and Order to the extent of withholding program test authority for the Channel 257C1 allotment in Pembroke until the ultimate permittee of the Channel 256C3 allotment at Barnwell commences operation. With this action, the proceeding is terminated.

DATES: Effective October 22, 2002.

FOR FURTHER INFORMATION CONTACT: Robert Hayne, Mass Media Bureau (202) 418-2177.

SUPPLEMENTARY INFORMATION: This is a synopsis of the Commission's Memorandum Opinion and Order in MM Docket No. 00-18, adopted September 4, 2002, and released October 4, 2002. The full text of this decision is available for inspection and copying during normal business hours in the FCC Reference Information Center at Portals ll, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualixint@aol.com.

Federal Communications Commission.
John A. Karousos,
Assistant Chief, Audio Division, Media Bureau.

[FR Doc. 02-26778 Filed 10-21-02; 8:45 am]

BILLING CODE 6712-01-P